Title 3—

The President

Memorandum of February 14, 2024

Deferred Enforced Departure for Certain Palestinians

Memorandum for the Secretary of State [and] the Secretary of Homeland Security

Following the horrific October 7, 2023, terrorist attack by Hamas against Israel, and Israel's ensuing military response, humanitarian conditions in the Palestinian territories, and primarily Gaza, have significantly deteriorated. While I remain focused on improving the humanitarian situation, many civilians remain in danger; therefore, I am directing the deferral of removal of certain Palestinians who are present in the United States.

Pursuant to my constitutional authority to conduct the foreign relations of the United States, I have determined that it is in the foreign policy interest of the United States to defer for 18 months the removal of any Palestinian subject to the conditions and exceptions provided below.

Accordingly, I hereby direct the Secretary of Homeland Security to take appropriate measures to defer for 18 months the removal of any Palestinian who is present in the United States on the date of this memorandum, except for those:

(1) who have voluntarily returned to the Palestinian territories after the date of this memorandum;

(2) who have not continuously resided in the United States since the date of this memorandum;

(3) who are inadmissible under section 212(a)(3) of the Immigration and Nationality Act (INA) (8 U.S.C. 1182(a)(3)) or deportable under section 237(a)(4) of the INA (8 U.S.C. 1227(a)(4));

(4) who have been convicted of any felony or two or more misdemeanors committed in the United States, or who meet any of the criteria set forth in section 208(b)(2)(A) of the INA (8 U.S.C. 1158(b)(2)(A));

(5) who are subject to extradition;

(6) whose presence in the United States the Secretary of Homeland Security has determined is not in the interest of the United States or presents a danger to public safety; or

(7) whose presence in the United States the Secretary of State has reasonable grounds to believe would have potentially serious adverse foreign policy consequences for the United States.

I further direct the Secretary of Homeland Security to take appropriate measures to authorize employment for noncitizens whose removal has been deferred, as provided by this memorandum, for the duration of such deferral, and to consider suspending regulatory requirements with respect to F-1 nonimmigrant students who are Palestinians as the Secretary of Homeland Security determines to be appropriate.

The Secretary of Homeland Security is authorized and directed to publish this memorandum in the Federal Register.

THE WHITE HOUSE,

Washington, February 14, 2024

[FR Doc. 2024-03514

Filed 2-16-24; 8:45 am]

Billing code 4410-10-P